DEPARTMENT OF EDUCATION

Notice of Proposed Information Collection Requests

AGENCY: Department of Education.

ACTION: Correction notice.

SUMMARY: On April 21, 2004, the Department of Education published a correction notice in the Federal Register (Page 21502, Column 1) for the information collection, “The Evaluation of Exchange, Language, International and Area Studies (EELIAS), NRC, FLAS, IPP, UISFUL, BIE, CIBE, AORC, Language Resource Centers (LRC), International Studies and Research (IRS), Fulbright-Hays Faculty Research Abroad (FRA), Fulbright-Hays Doctoral Dissertation Research Abroad (DDRA), Fulbright-Hays Seminars Abroad (SA), Fulbright-Hays Group Projects Abroad (GPA), and Technology Innovation and Cooperation for Foreign Information Access (TICFIA) Programs”. The abstract is hereby corrected to read: “International Education Programs Service (IEPS) requests the approval of EELIAS. This information collection will assist IEPS in meeting program planning and evaluation requirements. Program Officers require performance information to justify continuation funding, and grantees use the information for self evaluations and to request continued funding from the Department of Education.”

Dated: April 21, 2004.
Angela C. Arrington,
Regulatory Information Management Group, Office of the Chief Information Officer.

[FR Doc. 04-9552 Filed 4-26-04; 8:45 am]

BILLING CODE 4000-01-P